DEPARTMENT OF COMMERCE

National Telecommunications and Information Administration

First Responder Network Authority; First Responder Network Authority Board Meetings

AGENCY: First Responder Network Authority (FirstNet), U.S. Department of Commerce.

ACTION: Notice of public meetings.

SUMMARY: The Board of the First Responder Network Authority (FirstNet) will convene an open public meeting on December 9, 2015, preceded by open public meetings of the Board Committees on December 8, 2015.

DATES: On December 8, 2015 between 8:00 a.m. and 3:30 p.m. CST, there will be a joint meeting of FirstNet's four Board Committees. The meeting of the Governance and Personnel, Finance, Technology, and Consultation and Outreach Committees and will be open to the public from 8:00 a.m. to 10:00 a.m. CST. The FirstNet Committees will then go into a closed session from 10:00 a.m. to 3:30 p.m. The full FirstNet Board will hold an open public meeting on December 9, 2015 between 8:00 a.m. and 10:30 a.m. CST.

ADDRESSES: The meetings on December 8 and December 9, 2015 will be held at Hyatt Regency Houston, 1200 Louisiana Street, Houston, TX 77002.

FOR FURTHER INFORMATION CONTACT: Eli Veenendaal, Board Secretary (Acting), FirstNet, 12201 Sunrise Valley Drive, M/S 243, Reston, VA 20192; telephone: (571) 665-6143; email: elijah.veenendaal@firstnet.gov. Please direct media inquiries to Ryan Oremland at (571) 665-6186.

SUPPLEMENTARY INFORMATION: This notice informs the public that the Board of FirstNet will convene an open public meeting on December 9, 2015, preceded by a joint open public meeting of the Board Committees on December 8, 2015.

Background: The Middle Class Tax Relief and Job Creation Act of 2012 (Act), Public Law 112-96, 126 Stat. 156 (2012), established FirstNet as an independent authority within the National Telecommunications and Information Administration that is headed by a Board. The Act directs FirstNet to ensure the building, deployment, and operation of a nationwide, interoperable public safety broadband network. The FirstNet Board is responsible for making strategic decisions regarding FirstNet's operations. The FirstNet Board held its first public meeting on September 25, 2012.

Matters to be Considered: FirstNet will post detailed agendas of each meeting on its Web site, http://www.firstnet.gov, prior to the meetings. The agenda topics are subject to change. Please note that the subjects that will be discussed by the Committees and the Board may involve commercial or financial information that is privileged or confidential, personnel matters, or other legal matters affecting FirstNet. As such, the Committee chairs and Board Chair may call for a vote to close the meetings only for the time necessary to preserve the confidentiality of such information, pursuant to 47 U.S.C. 1424(e)(2).

Times and Dates of Meetings: On December 8, 2015 between 8:00 a.m. and 3:30 p.m. CST, there will be a joint meeting of FirstNet's four Board Committees. The meeting of the Governance and Personnel, Finance, Technology, and Consultation and Outreach Committees will be open to the public from 8:00 a.m. to 10:00 a.m. CST. The FirstNet Committees will then go into a closed session from 10:00 a.m. to 3:30 p.m. The full FirstNet Board will hold an open public meeting on December 9, 2015 between 8:00 a.m. and 10:30 a.m. CST.

Place: The meetings on December 8 and December 9, 2015 will be held at Hyatt Regency Houston, 1200 Louisiana Street, Houston, TX 77002.

Other Information: These meetings are open to the public and press on a first-come, first-served basis. Space is limited. In order to get an accurate headcount, all expected attendees are asked to provide notice of intent to attend by sending an email to BoardRSVP@firstnet.gov. If the number of RSVPs indicates that expected attendance has reached capacity, FirstNet will respond to all subsequent notices indicating that capacity has been reached and that in-person viewing may no longer be available but that the meeting may still be viewed by webcast as detailed below. For access to the meetings, valid government issued photo identification may be requested for security reasons.

The meetings are accessible to people with disabilities. Individuals requiring accommodations, such as sign language interpretation or other ancillary aids, are asked to notify Monica Welham, Executive Assistant, FirstNet, at (571) 665-6144 or monica.welham@firstnet.gov, at least five (5) business days before the applicable meeting(s).

The meetings will also be webcast. Please refer to FirstNet's Web site at www.firstnet.gov for webcast instructions and other information. Viewers experiencing any issues with the live webcast may email support@sparkstreetdigital.com or call 202-684-3361 x9 for support. A variety of automated troubleshooting tests are also available via the “Troubleshooting Tips” button on the webcast player. The meetings will also be available to interested parties by phone. To be connected to the meetings in listen-only mode by telephone, please dial 888-968-4305 and passcode 7898932.

Records: FirstNet maintains records of all Board proceedings. Minutes of the Board Meeting and the Committee meetings will be available at www.firstnet.gov.

Dated: November 23, 2015.
Eli Veenendaal,
Attorney Advisor, First Responder Network Authority.

[FR Doc. 2015-30273 Filed 11-27-15; 8:45 am]

BILLING CODE 3510-TL-P